DEPARTMENT OF THE INTERIOR

National Park Service

[NPS-WASO-NAGPRA-NPS0037543; PPWOCRADN0-PCU00RP14.R50000]

Notice of Inventory Completion: U.S. Department of the Interior, Bureau of Land Management, Winnemucca District Office, Winnemucca, NV

AGENCY: National Park Service, Interior.

ACTION: Notice.

SUMMARY: In accordance with the Native American Graves Protection and Repatriation Act (NAGPRA), the U.S. Department of the Interior, Bureau of Land Management, Winnemucca District Office has completed an inventory of human remains and has determined that there is a cultural affiliation between the human remains and Indian Tribes or Native Hawaiian organizations in this notice. The human remains were removed from Washoe County, NV.

DATES: Repatriation of the human remains in this notice may occur on or after April 5, 2024.

ADDRESSES: Cedric Streater, Bureau of Land Management, 5100 E. Winnemucca Boulevard, Winnemucca, NV 89445, telephone (775) 623-1595, email cstreater@blm.gov.

SUPPLEMENTARY INFORMATION: This notice is published as part of the National Park Service's administrative responsibilities under NAGPRA. The determinations in this notice are the sole responsibility of the Winnemucca District Office. The National Park Service is not responsible for the determinations in this notice. Additional information on the determinations in this notice, including the results of consultation, can be found in the inventory or related records held by the Winnemucca District Office.

Description

Human remains representing, at minimum, five individuals were removed from Washoe County, NV. The human remains consisted of five incomplete individuals: one adult male; one young adult male approximately 20-35 years old; one young adult male; one youth, possibly male, approximately 15-20 years old; and one child. These human remains were originally cataloged by the Hearst Museum under Accession 1030 and their catalog number is 12-8369. At the request of the Pyramid Lake Paiute Tribe, these human remains were transferred to the Nevada State Museum (NSM) in 2012. The NSM catalog numbers for the human remains are AHUR 6019 through 6023.

The Bureau of Land Management recently became aware of Native American human remains collected prior to November 16, 1990, on lands administered by the BLM. The human remains were reported as culturally unidentifiable on June 19, 2003, by the Phoebe A. Hearst Museum of Anthropology (Hearst Museum). In November 2011, the BLM became aware of previously unreported Native American human remains through a letter from the Pyramid Lake Paiute Tribe requesting BLM involvement in assisting with the repatriation of remains being held at the Hearst Museum. The remains were collected sometime in 1947-1948 near Winnemucca Lake Caves in Nevada and received by the Hearst Museum in 1948. According to the records of the Hearst Museum, this material was reported in their Washoe County Inventory, dated June 28, 2000. In a closer review of the locality documentation, it was determined the material is under the control of the BLM.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical information and expert opinion.

Determinations

Pursuant to NAGPRA and its implementing regulations, and after consultation with the appropriate Indian Tribes and Native Hawaiian organizations, the Winnemucca District Office has determined that:

• The human remains described in this notice represent the physical remains of five individuals of Native American ancestry.

• There is a relationship of shared group identity that can be reasonably traced between the human remains and associated funerary objects described in this notice and the Bishop Paiute Tribe; Bridgeport Indian Colony; Burns Paiute Tribe; Cedarville Rancheria, California; Confederated Tribes of the Warm Springs Reservation of Oregon; Fort Bidwell Indian Community of the Fort Bidwell Reservation of California; Fort Independence Indian Community of Paiute Indians of the Fort Independence Reservation, California; Fort McDermitt Paiute and Shoshone Tribes of the Fort McDermitt Indian Reservation, Nevada and Oregon; Klamath Tribes; Lone Pine Paiute-Shoshone Tribe; Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Shoshone-Paiute Tribes of the Duck Valley Reservation, Nevada; Summit Lake Paiute Tribe of Nevada; Susanville Indian Rancheria, California; Battle Mountain Band, Nevada; Te-Moak Tribe of Western Shoshone Indians of Nevada (Battle Mountain Band); Utu Utu Gwaitu Paiute Tribe of the Benton Paiute Reservation, Nevada; Walker River Paiute Tribe of the Walker River Reservation, Nevada; Winnemucca Indian Colony of Nevada; and the Yerington Paiute Tribe of the Yerington Colony & Campbell Ranch, Nevada.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 5, 2024. If competing requests for repatriation are received, the Winnemucca District Office must determine the most appropriate requestor prior to repatriation. Requests for joint repatriation of the human remains are considered a single request and not competing requests. The Winnemucca District Office is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 27, 2024.
Melanie O'Brien,
Manager, National NAGPRA Program.

[FR Doc. 2024-04671 Filed 3-5-24; 8:45 am]

BILLING CODE 4312-52-P